DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before November 16, 2009. Address written comments to Statutory Import Programs Staff, Room 3720, U.S. Department of Commerce, Washington, DC 20230. Applications may be examined between 8:30 a.m. and 5 p.m. at the U.S. Department of Commerce in Room 3720.

Docket Number: 09-055. Applicant: Hunter College/CUNY, 695 Park Ave., New York, NY 10065. Instrument: Electron Microscope. Manufacturer: JEOL Ltd., Japan. Intended Use: The instrument will be used to study the three-dimensional structure, crystalline structure, internal cellular structure, elemental analysis, and atomic distribution of nanomaterials. Justification for Duty-Free Entry: No instruments of same general category are manufactured in the United States. Application accepted by Commissioner of Customs: September 18, 2009.

Docket Number: 09-056. Applicant: University of California at Davis, One Shields Ave., Davis, CA 95616. Instrument: Electron Microscope. Manufacturer: FEI Company, Czech Republic. Intended Use: The instrument will be used for imaging nano range lines and spaces for electrical and biological applications. Justification for Duty-Free Entry: No instruments of same general category are manufactured in the United States. Application accepted by Commissioner of Customs: September 18, 2009.

Docket Number: 09-057. Applicant: Northwestern University, 633 Clark St., Evanston, IL 60208. Instrument: Electron Microscope. Manufacturer: JEOL Ltd., Japan. Intended Use: The instrument will be used for cryoelectron microscopy of thicker/bulk-frozen samples, to capture tilt-series for tomographic reconstruction and to obtain any chemical/analytical information from biological specimens. Justification for Duty-Free Entry: No instruments of same general category are manufactured in the United States. Application accepted by Commissioner of Customs: September 28, 2009.

Dated: October 9, 2009.
Richard Herring,
Acting Director, IA Subsidies Enforcement Office.

[FR Doc. E9-24965 Filed 10-23-09; 8:45 am]

BILLING CODE M